DEPARTMENT OF TRANSPORTATION

Federal Highway Administration and Federal Transit Administration

Environmental Impact Statement; King County, Washington

AGENCIES: Federal Highway Administration (FHWA) and Federal Transit Administration (FTA), Department of Transportation.

ACTION: Notice of intent.

SUMMARY: The FHWA and FTA, in cooperation with Sound Transit (ST) and Washington State Department of Transportation (WSDOT) are issuing this notice to advise the public, affected Indian tribes and agencies that an environmental impact statement (EIS) will be prepared for improvements within the SR 520 corridor from Seattle to Redmond in King County, Washington. High capacity transit (HCT) alternatives across Lake Washington, including the SR 520 and I-90 corridors, will also be considered at a programmatic level.

FOR FURTHER INFORMATION CONTACT: James A. Leonard, Federal Highway Administration, 711 South Capitol Way, Suite 501, Olympia, Washington 98501-1284, Telephone: (360) 753-9408; Jennifer Bowman, Federal Transit Administration, 915 2nd Avenue, Seattle, Washington 98174, Telephone: (206) 220-7954; Rob Fellows, Washington State Department of Transportation, Office of Urban Mobility, 401 Second Avenue South, Suite 301, Seattle, Washington 98104-2887, Telephone (206) 464-6234; Barb Gilliland, Sound Transit, 401 S. Jackson Street, Seattle, Washington 98104-2826, Telephone (206) 398-5051; or see website at http://www.wsdot.wa.gov/translake

SUPPLEMENTARY INFORMATION: The purpose of the proposed action is to improve mobility for people and goods across Lake Washington within the SR 520 corridor from Seattle to Redmond to address the following needs in the corridor. Land uses and transportation systems are not integrated in their planning and implementation; the transportation system suffers from extensive congestion; reliability and safety of the system are impaired; and neighborhoods, business centers and the environment are negatively impacted by high traffic volumes.

Alternatives under initial consideration include: (1) No action; (2) maintain SR 520 as four lanes, but improve access, operation, and safety; (3) add one HOV lane in each direction; (4) add one HOV lane and high-capacity transit in each direction; (5) add one HOV lane and one general purpose lane in each direction; and (6) add one HOV lane, high-capacity transit, and one general purpose lane in each direction. Each “build” alternative will also include Transportation System Management (TSM) measures, Transportation Demand Management (TDM) measures, bicycle and pedestrian facilities, and environmental and neighborhood mitigation and enhancement measures. HCT alternatives across Lake Washington, including the SR 520 and I-90 corridors, will also be considered at a programmatic level.

Letters describing the proposed action and soliciting comments on the scope of the EIS will be sent to appropriate Federal, State, and local agencies, affected Indian tribes, and to organizations and citizens who have previously expressed or are known to have interest in this proposal. A public hearing will be held and notice will be given of the time and place of the hearing. A series of agency and public scoping meetings are scheduled to be held during July 2000. (See below for details.)

Each public scoping meeting will consist of an informal open house setting from 5-7 p.m. and a formal meeting format beginning at 7 p.m. The formal meeting will begin with a short presentation, after which, comments will be received in the group forum. A court reporter will be available to record oral comments in an informal one-on-one setting, for the open house, and will also record the formal meeting and comments from individuals in the group setting.

Comments may be made at one of the following public scoping meetings.

• Tuesday, July 18, 2000 at the Museum of History and Industry, 2700 24th Ave. East, Seattle, WA

• Wednesday, July 19, 2000 at Medina Elementary School, 8001 NE 8th Street, Medina, WA

• Thursday, July 20, 2000 at North Bellevue Community/Senior Center, 4063 148th Avenue NE, Bellevue, WA

In addition, a scoping meeting for governmental agencies and tribes will be held on July 12, 2000 at 9 a.m. at the Museum of History and Industry, 2700 24th Ave. East, Seattle, WA. A second agency scoping meeting will be held on July 26, 2000 at 9 a.m. at the WSDOT Office of Urban Mobility, 401 Second Avenue S., Suite 300, Seattle, WA.

To ensure that the full range of issues related to the proposed action are addressed and all significant issues are identified, comments and suggestions are invited from all interested parties. Comments on the scope of alternatives and impacts to be considered are requested by August 3, 2000 and should be sent to: Rob Fellows, WSDOT Office of Urban Mobility, 401 Second Avenue South, Suite 300, Seattle, WA 98104-2887; fax number (206) 464-6084; or e-mail to translake@wsdot.wa.gov.

(Catalog of Federal Domestic Assistance Program Number 20.205, Highway Research, Planning and Construction. The regulations implementing Executive Order 12372 regarding intergovernmental consultation on Federal programs and activities apply to this program.)
Issued on: July 10, 2000.
Helen M. Knoll,
Regional Administrator, Federal Transit Administration, Region 10.
James A. Leonard,
Transportation and Environmental Engineer, Federal Highways Administration, Washington Division.

[FR Doc. 00-18065 Filed 7-17-00; 8:45 am]

BILLING CODE 4910-22-M